DEPARTMENT OF HEALTH AND HUMAN SERVICES

[Docket No. CDC-2015-0045]

42 CFR Part 73

RIN 0920-AA59

Possession, Use, and Transfer of Select Agents and Toxins; Biennial Review and Enhanced Biosafety Requirements; Delay of Effective Date

AGENCY: Centers for Disease Control and Prevention (CDC), Department of Health and Human Services (HHS)

ACTION: Final rule; delay of effective date.

SUMMARY: The Centers for Disease Control and Prevention (CDC) in the Department of Health and Human Services (HHS) announces a delay in the effective date of the final rule titled “Possession, Use, and Transfer of Select Agents and Toxins, Biennial Review and Enhanced Biosafety Requirements” that published on January 19, 2017. In a companion document published in this issue of the Federal Register, the U.S. Department of Agriculture (USDA) is making a parallel change in the effective date of their final rule. This action is undertaken in accordance with the memorandum of January 20, 2017 from the Assistant to the President and Chief of Staff entitled “Regulatory Freeze Pending Review.”

DATES: The effective date for the final rule published January 19, 2017, at 82 FR 6278, is delayed until March 21, 2017.

FOR FURTHER INFORMATION CONTACT: Dr. Samuel S. Edwin, Director, Division of Select Agents and Toxins, Centers for Disease Control and Prevention, 1600 Clifton Road NE., MS A-46, Atlanta, Georgia, 30329. Telephone: 404-718-2000.

SUPPLEMENTARY INFORMATION: On January 19, 2017, HHS/CDC published a final rule titled “Possession, Use, and Transfer of Select Agents and Toxins; Biennial Review and Enhanced Biosafety Requirements” (82 FR 6278) with an effective date of February 21, 2017. With this document, HHS/CDC announces a new effective date of March 21, 2017 for this final rule. In a companion document published in this issue of the Federal Register, the U.S. Department of Agriculture (USDA) is making a parallel change in the effective date of their final rule.

HHS/CDC bases this action on the memorandum of January 20, 2017 from the Assistant to the President and Chief of Staff entitled “Regulatory Freeze Pending Review.” This memorandum directed the heads of Executive Departments and Agencies to temporarily postpone for sixty days from the date of the memorandum the effective dates of all regulations that had been published in the Federal Register but had not yet taken effect.

Dated: February 9, 2017.
Norris Cochran,
Acting Secretary, Department of Health and Human Services.

[FR Doc. 2017-03044 Filed 2-15-17; 8:45 am]

BILLING CODE 4163-18-P